DEPARTMENT OF COMMERCE

Bureau of Export Administration

President's Export Council Subcommittee on Encryption; Notice of Meeting Change

Federal Register citation of previous announcement: p. 80833, December 22, 2000.

Previously announced time of meeting: 9:30 a.m., January 10, 2001.

New time of meeting: 9:00 a.m., January 30, 2001, Room 3407.

Dated: December 28, 2000
Lee Ann Carpenter,
Committee Liaison Officer.

[FR Doc. 01-193 Filed 1-3-01; 8:45 am]

BILLING CODE 3510-JT-M